DEPARTMENT OF COMMERCE

International Trade Administration

[A-570-836]

Continuation of Antidumping Duty Order: Glycine from the People's Republic of China

AGENCY: Import Administration, International Trade Administration, Department of Commerce.

ACTION: Notice of continuation of antidumping duty orders: Glycine from the People's Republic of China

SUMMARY: On June 8, 2000 the Department of Commerce (“the Department”), pursuant to sections 751(c) and 752 of the Tariff Act of 1930, as amended (“the Act”), determined that revocation of the antidumping duty order on glycine from the People's Republic of China (“PRC”) would be likely to lead to continuation or recurrence of dumping (65 FR 36405). On July 12, 2000, the International Trade Commission (“the Commission”), pursuant to section 751(c) of the Act, determined that revocation of the antidumping duty order on Glycine from PRC would be likely to lead to continuation or recurrence of material injury to an industry in the United States within a reasonably foreseeable time (65 FR 43037). Therefore, pursuant to 19 CFR 351.218(f)(4), the Department is publishing notice of the continuation of antidumping duty order on Glycine from the PRC.

Effective Date: July 25, 2000.

For Further Information Contact: Eun W. Cho or James Maeder, Office of Policy for Import Administration, International Trade Administration, U.S. Department of Commerce, 14th Street and Constitution Ave., NW, Washington, D.C. 20230; telephone: (202) 482-1698 or (202) 482-3330, respectively.

SUPPLEMENTARY INFORMATION:

Background

On February 3, 2000, the Department initiated, and the Commission instituted, sunset reviews (65 FR 5308 and 65 FR 5371, respectively) of the antidumping duty order on glycine from the PRC, pursuant to section 751(c) of the Act. As a result of its review, the Department found that revocation of the antidumping duty order would be likely lead to continuation or recurrence of dumping and notified the Commission of the magnitude of the margins likely to prevail were the order to be revoked.¹

¹ See Glycine From the People’s Republic of China; Final Results of Expedited Sunset Review of Antidumping Duty Order, 65 FR 36405 (June 8, 2000).

On July 12, 2000, the Commission determined, pursuant to section 751(c) of the Act, that revocation of the antidumping duty order on glycine from the PRC would be likely to lead to continuation or recurrence of material injury to an industry in the United States within a reasonably foreseeable time (see, Glycine From China, 65 FR 43037 (July 12, 2000) and USITC Publication 3315, Investigation No. 731-TA-718 (Review) (June 2000)).

Scope

The product covered by this order is glycine, which is a free-flowing crystalline material, like salt or sugar. Glycine is produced at varying levels of purity and is used as a sweetener/taste enhancer, a buffering agent, re-absorbable amino acid, chemical intermediate, and a metal complexing agent. Glycine is currently classified under subheading 2922.49.4020 of the Harmonized Tariff schedule of the United States (“HTSUS”). The scope of this order includes glycine of all purity levels. In a separate scope ruling, the Department determined that D(-)PhenylglycineEthyl Dane Salt is outside the scope of the order.²

² See Notice of Scope Rulings, 62 FR 62288 (November 21, 1997). We note that scope ruling are made on an order-wide basis.

Although the HTSUS subheadings are provided for convenience and customs purposes, our written description of the scope of this proceeding is dispositive.

Determination

As a result of the determinations by the Department and the Commission that revocation of these antidumping duty orders would be likely to lead to continuation or recurrence of dumping and material injury to an industry in the United States, pursuant to section 751(d)(2) of the Act, the Department hereby orders the continuation of the antidumping duty orders on glycine from the PRC. The Department will instruct the U.S. Customs Service to continue to collect antidumping and countervailing duty deposits at the rates in effect at the time of entry for all imports of subject merchandise. The effective date of continuation of this order will be the date of publication in the Federal Register of this Notice of Continuation. Pursuant to section 751(c)(2) and 751(c)(6) of the Act, the Department intends to initiate the next five-year review of these orders not later than June 2005.

Dated: July 19, 2000.
Troy H. Cribb,
Acting Assistant Secretary for Import Administration.

[FR Doc. 00-18808 Filed 7-24-00; 8:45 am]

BILLING CODE 3510-DS-P